ENVIRONMENTAL PROTECTION AGENCY

40 CFR Part 52

[EPA-R05-OAR-2006-0774; FRL-8284-5]

Approval and Promulgation of Air Quality Implementation Plans; Indiana

AGENCY: Environmental Protection Agency (EPA).

ACTION: Direct final rule.

SUMMARY: The EPA is approving revisions to Indiana's State Implementation Plan (SIP) submitted on August 25, 2006, revising its existing emission reporting rule to be consistent with the emission statement program requirements for stationary sources in the Clean Air Act (CAA). The rationale for approval and other information are provided in this rulemaking action.

DATES: This direct final rule will be effective May 29, 2007, unless EPA receives adverse comments by April 30, 2007. If adverse comments are received, EPA will publish a timely withdrawal of the direct final rule in the Federal Register informing the public that the rule will not take effect.

ADDRESSES: Submit your comments, identified by Docket ID No. EPA-R05-OAR-2006-0774, by one of the following methods:

1. www.regulations.gov: Follow the on-line instructions for submitting comments.

2. E-mail: mooney.john@epa.gov.

3. Fax: (312) 886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2006-0774. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding legal holidays. We recommend that you telephone Charles Hatten, Environmental Engineer, at (312) 886-6031 before visiting the Region 5 office.

FOR FURTHER INFORMATION CONTACT: Charles Hatten, Environmental Engineer, Criteria Pollutant Section, Air Programs Branch (AR-18J), Environmental Protection Agency, Region 5, 77 West Jackson Boulevard, Chicago, Illinois 60604, (312) 886-6031, Hatten.Charles@epa.gov.

SUPPLEMENTARY INFORMATION: Throughout this document whenever “we,” “us,” or “our” is used, we mean EPA. This supplementary information section is arranged as follows:

I. General Information

II. What Is Required by the Clean Air Act and How Does It Apply to Indiana?

III. What Change Is Indiana Requesting?

IV. What Action Is EPA Taking?

V. Statutory and Executive Order Reviews

I. General Information

This rulemaking applies to stationary sources located in ozone nonattainment areas. It requires sources to submit emission statement data to the Indiana Department of Environmental Management (IDEM) on an annual basis. This collected emission data can help the IDEM develop a complete and accurate emission inventory for air quality planning purposes at the State, and also meet EPA emission reporting requirements.

II. What Is Required by the Clean Air Act and How Does It Apply to Indiana?

Emission Statements (Annual Reporting)

Section 182(a)(3)(B) of the CAA requires each state to submit revisions to its State implementation plan (SIP) to require that the owner or operator of each stationary source of oxides of nitrogen (NOX) and volatile organic compounds (VOCs) in nonattainment areas prepare and submit emission statements each year showing actual emissions of those pollutants. This requirement applies to all ozone nonattainment areas covered under subpart 2 of part D of Title I of the CAA, regardless of classification (marginal, moderate, etc.) In such nonattainment areas, facilities which emit VOC or NOX (on a plant-wide basis) in amounts of 25 tons per year or more into the ambient air must submit an emission statement to the State.

On June 10, 2002 (67 FR 39602), EPA amended the list of pollutants to be reported on emission statements, adding particulate matter with an aerodynamic diameter less than or equal to 2.5 micrometers (PM 2.5) and ammonia (NH3).

On April 30, 2004, EPA published its Phase 1 rule to implement the 8-hour ozone National Ambient Air Quality Standard (NAAQS) (69 FR 23951). On this same date, EPA set forth nonattainment and attainment designations for the 8-hour ozone NAAQS (69 FR 23858).

EPA has determined that the emission statement program requirements previously applicable for the 1-hour ozone NAAQS apply in the same manner for the 8-hour NAAQS. See May 3, 2006, memorandum from Thomas C. Curran, Director, Air Quality Assessment Division, to Regional Air Division Directors, entitled “Emission Statement Requirement Under 8-hour Ozone NAAQS implementation.” Thus, the requirement for emission statements under section 182(a)(3)(B) applies to newly-designated subpart 2 ozone nonattainment areas. Also, those areas designated nonattainment for ozone under the 1-hour ozone NAAQS and then designated nonattainment under the 8-hour ozone NAAQS, regardless of classification under subpart 2 of part D of Title I of the Act, remain subject to the emission statement requirement of section 182(a)(3)(B).

Indiana's Current SIP

On June 10, 1994, EPA approved rule 2-6 of Title 326 of the Indiana Administrative Code (IAC), as meeting the emission statement program requirements of section 182(a)(3)(B) of the CAA. See 59 FR 29956. Subsequently, EPA redesignated a number of counties subject to the emission statement program to attainment for the 1-hour ozone standard. See, e.g., 59 FR 5439 (Indianapolis) and 62 FR 64725 (Evansville). On October 29, 2004, EPA approved a revision to rule 2-6 to reflect these changes. 69 FR 63069. As a result, the emission statement program requirements applied to stationary sources in Lake and Porter counties.

On April 30, 2004, EPA designated Lake, Porter, and LaPorte Counties as nonattainment for the 8-hour ozone standard. 69 FR 23858.

III. What Change Is Indiana Requesting?

Indiana is requesting that EPA approve the revisions to the existing emission reporting rule, 326 IAC 2-6, to be consistent with the emission statement program requirements for stationary sources in section 182(a)(3)(B) of the CAA. Since, under the existing Federally approved SIP for Indiana, the emission statement program requirements for the 1-hour ozone NAAQS apply in the same manner as for the 8-hour NAAQS, the emission statement program requirements will remain applicable to stationary sources in Lake and Porter counties. The requirement for emission statements under section 182(a)(3)(B) will also apply to LaPorte County, the only newly designated nonattainment area in Indiana under subpart 2 of the 8-hour ozone NAAQS.

Indiana is also requesting that EPA approve the addition of particulate matter with an aerodynamic diameter less than or equal to 2.5 micrometers (PM 2.5) and ammonia (NH3) to the list of pollutants to be reported on the emission statement.

IV. What Action Is EPA Taking?

EPA has determined that the Indiana program contains the necessary applicability, compliance and reporting provisions necessary to meet the requirements for an emission statement program for all ozone nonattainment areas for the 8-hour ozone standard under subpart 2 of the CAA. The revision to Indiana's revised emission statement program will now include stationary sources in LaPorte County. Therefore, EPA is approving the revisions to the emission reporting requirements of 326 IAC 2-6 to satisfy the Federal requirements for an emission statement program as part of the SIP. EPA is also approving Indiana's request to include PM 2.5 and NH3 to the list of pollutants to be reported in emission statements.

We are publishing this action without prior proposal because we view this as a noncontroversial amendment and anticipate no adverse comments. However, in the proposed rules section of this Federal Register publication, we are publishing a separate document that will serve as the proposal to approve the state plan if relevant adverse written comments are filed. This rule will be effective May 29, 2007 without further notice unless we receive relevant adverse written comments by April 30, 2007. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective May 29, 2007.

V. Statutory and Executive Order Reviews

Executive Order 12866: Regulatory Planning and Review

Under Executive Order 12866 (58 FR 51735, October 4, 1993), this action is not a “significant regulatory action” and, therefore, is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by May 29, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Nitrogen dioxide, Ozone, Reporting and recordkeeping requirements, and Volatile organic compounds.

Dated: February 27, 2007.
Steve Rothblatt,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by removing and reserving paragraphs (c)(91) and (c)(166), and adding paragraph (c)(178) to read as follows:

§ 52.770 Identification of plan.

* * * * *

(c) * * *

(178) On August 25, 2006, Indiana submitted final adopted revisions to its emission reporting requirement rules as a revision to the Indiana State Implementation Plan.

(i) Incorporation by reference. Indiana Administrative Code Title 326: Air Pollution Control Board, Article 2: Permit Review Rules, Rule 6 Emission Reporting, Section 1: Applicability, Section 3: Compliance schedule, and Section 4: Requirements. Approved by the Attorney General June 29, 2006. Approved by the Governor July 13, 2006. Filed with the Publisher July 14, 2006. Published on the Indiana Register Web site August 9, 2006, Document Identification Number (DIN):20060809-IR-326050078FRA. Effective August 13, 2006.

[FR Doc. E7-5655 Filed 3-28-07; 8:45 am]

BILLING CODE 6560-50-P